DEPARTMENT OF THE INTERIOR

Bureau of Land Management

[19X.LLIDI00000.L71220000.EO0000.LVTFDX402300.241A.4500132833]

Notice of Availability of the Final Environmental Impact Statement for the Proposed Caldwell Canyon Mine Project, Caribou County, Idaho

AGENCY: Bureau of Land Management, Interior.

ACTION: Notice of availability.

SUMMARY: In accordance with the National Environmental Policy Act of 1969 (NEPA), as amended, the Bureau of Land Management (BLM) has prepared a Final Environmental Impact Statement (EIS) for the proposed Caldwell Canyon Mine Project and by this notice is announcing its availability.

DATES: The BLM will not issue a final decision on the proposal for a minimum of 30 days after the date that the Environmental Protection Agency publishes its Notice of Availability in the Federal Register.

ADDRESSES: Copies of the Caldwell Canyon Mine Final EIS are available for public inspection at the BLM Pocatello Field Office at the following address: 4350 Cliffs Drive, Pocatello, ID 83204. Interested persons may also review the Final EIS online at the BLM Land Use Planning and NEPA Register website: https://bit.ly/2SaxWcO.

FOR FURTHER INFORMATION CONTACT: Bill Volk, Planning and NEPA Specialist, BLM Pocatello Field Office by mail or in person at 4350 Cliffs Drive, Pocatello, ID 83204; by phone at 208-236-7503; by email at wvolk@blm.gov; and by fax at 208-478-6376. Persons who use a telecommunications device for the deaf (TDD) may call the Federal Information Relay Service (FIRS) at 1-800-877-8339 to contact Mr. Volk. The FIRS is available 24 hours a day, 7 days a week, to leave a message or question for Mr. Volk. You will receive a reply during normal business hours.

SUPPLEMENTARY INFORMATION: P4 Production, LLC (P4 Production), a subsidiary of Bayer AG, developed and submitted a Mine and Reclamation Plan (M&RP) application (the proposed action in the Final EIS) for the Caldwell Canyon Mine. The proposed action reflects P4 Production's desire to exercise its exclusive mineral development rights granted by the United States Federal phosphate leases IDI-000002, IDI-014080, and IDI-013738; and by the State of Idaho mineral lease E07959. P4 Production proposes to construct and operate a new 1,559-acre surface mine with associated haul roads, a rail shipping point, and other ancillary facilities. The mine would place waste rock into the nearby inactive Dry Valley Mine pit on Federal phosphate lease IDI-014184. Modifications to enlarge the phosphate lease boundaries are necessary to recover all ore that exists adjacent to the leased deposit. The M&RP requests authorization for a related haul road across BLM-managed land as described in the Final EIS. The mine would operate for approximately 40 years. The Final EIS fully evaluates alternatives to the proposed action, including a No Action alternative, and addresses issues identified during initial scoping for the EIS, from public comments on the Draft EIS, and from the BLM's analysis. In accordance with 40 CFR 1502.14(e), the BLM has identified Alternative 1 in the Final EIS as the preferred alternative.

The BLM will make decisions to either approve, approve with modification, or deny the M&RP application. In addition, the BLM will decide whether to modify (enlarge) the lease boundaries and grant authorization for a haul road across Federal land. The Notice of Availability of the Draft EIS published on November 30, 2018, initiating a 45-day public comment period. The public comments resulted in additional information regarding water quality and quantity, wildlife, habitat conversion, noise, safety, socioeconomics, tribal interests, cultural resources, vegetation, visual quality, mine reclamation, financial assurance, mitigation measures, and environmental monitoring of mine operations being included in the Final EIS.

The Idaho Department of Environmental Quality, Idaho Department of Lands, the U.S. Army Corps of Engineers, and the Idaho Governor's Office of Energy and Mineral Resources are cooperating agencies.

Authority: 40 CFR 1506.6, 40 CFR 1506.10.

John F. Ruhs,
Idaho State Director.

[FR Doc. 2019-10146 Filed 5-16-19; 8:45 am]

BILLING CODE 4310-GG-P